INTERNATIONAL TRADE COMMISSION

[Inv. No. 337-TA-457]

In the Matter of Certain Polyethylene Terephthalate Yarn and Products Containing Same; Notice of Commission Determination To Review in Part an Order Granting-in-Part and Denying-in-Part a Motion for Summary Determination of Invalidity and Non-Infringement of the Only Patent at Issue in the Investigation; Determination To Grant Two Motions To Strike Exhibits

AGENCY: International Trade Commission.

ACTION: Notice.

SUMMARY: Notice is hereby given that the U.S. International Trade Commission has determined to review in part an order (Order No. 61) issued on February 4, 2002, by the presiding administrative law judge (ALJ) in the above-captioned investigation granting-in-part and denying-in-part a motion for summary determination of invalidity and non-infringement of the only patent at issue in the investigation. The Commission has determined to review only the issue of indefiniteness under 35 U.S.C. 112, second paragraph. The Commission has also determined to grant two motions to strike certain exhibits attached to pleadings filed in connection with Order No. 61.

FOR FURTHER INFORMATION CONTACT: Jean Jackson, Esq., Office of the General Counsel, U.S. International Trade Commission, 500 E Street, SW., Washington, DC 20436, telephone 202-205-3104. Copies of the public version of Order No. 61 and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TTD terminal on 202-205-1810. The public record for this investigation may be viewed on the Commission's electronic docket (EDIS-ON-LINE) at http://dockets.usitc.gov/ eol/public. General information concerning the Commission may also be obtained by accessing its Internet server, http://www.usitc.gov.

SUPPLEMENTARY INFORMATION: The Commission instituted this patent-based investigation, which concerns allegations of unfair acts in violation of section 337 of the Tariff Act of 1930 in the importation and sale of certain polyethylene terephthalate yarn and products containing same, on May 17, 2001. 66 FR 27586. The complainant, Honeywell International Inc. of Morris town, New Jersey named Hyosung Corp. of Seoul, Korea as the only respondent. On September 21, 2001, the Commission determined not to review an ID adding Hyosung America, Inc., a wholly-owned U.S. subsidiary of Hyosung Corp., as a respondent.

On December 13, 2001, respondent Hyosung moved for summary determination of patent invalidity and non-infringement. The motion was opposed by Honeywell and supported by the Commission investigative attorney. On February 4, 2002, the ALJ issued an order, Order No. 61, which granted Hyosung's motion for summary determination of non-infringement, but denied the motion as to patent invalidity. Honeywell filed a petition for review of the initial determination portion of the order on February 19, 2002. Hyosung and the Commission investigative attorney (IA) filed appeals of the portion of the order denying summary determination on the same date. Each of these parties filed responses to the February 19, 2002, filings on February 26, 2002.

Although the Commission has determined to review the issue of definiteness under 35 U.S.C. 112, second paragraph, it does not wish to receive any further written submissions.

On February 25, 2002, Hyosung moved to strike certain documents that were attached to Honeywell's response to the appeals of the order on the ground that the documents were not before the ALJ when he decided the motion for summary determination. On March 1, 2002, Honeywell opposed the motion. On February 28, 2002, Hyosung moved to strike a document that was attached to Honeywell's response to Hyosung's and the IA's petitions for review on the ground that the document was not of record. This motion was opposed by Honeywell on March 7, 2002. Both motions to strike were supported by the IA on March 7, 2002.

The authority for the Commission's determination is contained in section 337 of the Tariff Act of 190, as amended, 19 U.S.C. 1337, and in sections 210.24 and 210.42(h) of the Commission's Rules of Practice and Procedure, 19 CFR 210.24, 210.42(h).

By order of the Commission.
Issued: March 21, 2002.
Marilyn R. Abbott,
Secretary.

[FR Doc. 02-7403 Filed 3-27-02; 8:45 am]

BILLING CODE 7020-02-P